DEPARTMENT OF COMMERCE

National Oceanic and Atmospheric Administration

RIN 0648-XG01

Endangered and Threatened Species; Revised Recovery Plan for Distinct Population Segments of Steller Sea Lion

AGENCY: National Marine Fisheries Service (NMFS), National Oceanic and Atmospheric Administration, Commerce.

ACTION: Notice of Availability, responses to comments.

SUMMARY: The National Marine Fisheries Service (NMFS) announces the availability of the Final Revised Recovery Plan, dated March 2008, for the western and eastern distinct population segments (DPS) of Steller sea lion (Eumetopias jubatus). NMFS also provides a link to the comprehensive and extensive responses to comments on the May 2007 Draft Revised Steller Sea Lion Recovery Plan posted on our website.

ADDRESSES: The Final Revised Steller Sea Lion Recovery Plan and the Responses to Comments are available on the Internet at the following address: http://alaskafisheries.noaa.gov/protectedresources/stellers/recovery.htm. Copies of the Plan may also be obtained from NMFS, Protected Resources Division, 222 W 7th St, Anchorage, Alaska 99513; or from the Alaska Regional Office, Protected Resources Division, 709 W. 9th St, Juneau, AK, 99802-1668.

FOR FURTHER INFORMATION CONTACT: Lisa Rotterman at 907-271-5006, email lisa.rotterman@noaa.gov, or Kaja Brix at 907 586 7235, e-mail kaja.brix@noaa.gov.

SUPPLEMENTARY INFORMATION:

Background

Recovery plans are guidance documents that describe the actions considered necessary for the conservation and recovery of species listed under the Endangered Species Act of 1973 (ESA), as amended (16 U.S.C. 1531 et seq.). Development and implementation of a recovery plan helps to ensure that recovery efforts utilize limited resources effectively and efficiently. The ESA requires the development of recovery plans for listed species, unless such a plan would not promote the recovery of a particular species. The ESA requires that recovery plans incorporate the following: (1) objective, measurable criteria that, when met, would result in a determination that the species is no longer threatened or endangered; (2) site-specific management actions necessary to achieve the plan's goals; and (3) estimates of the time and costs required to implement recovery actions.

NMFS' goal is to restore endangered and threatened Steller sea lion (Eumetopias jubatus) populations to levels at which they are secure, self-sustaining components of their ecosystems and no longer require the protections of the ESA. The Steller sea lion was listed as a threatened species under the ESA on April 5, 1990 (55 FR 12645), due to substantial declines in the western portion of the range. Critical habitat was designated on August 27, 1993 (58 FR 45269), based on the locations of terrestrial rookeries and haulouts, the spatial extent of foraging trips, and availability of prey. In 1997, the Steller sea lion population was split into a western DPS and an eastern DPS, based on demographic and genetic dissimilarities (62 FR 30772). Due to a persistent population decline, the western DPS was reclassified as endangered at that time. The increasing eastern DPS remained classified as threatened. Through the 1990s, the western DPS continued to decline. Then, between 2000 and 2004, the western population showed a growth rate of approximately three percent per year the first recorded increase in the population since the 1970s. However, partial surveys in 2006 and 2007 suggest that the overall trend for the western population in Alaska is either stable or may be decreasing slightly. Based on recent counts, the approximate abundance of Steller sea lions in the western DPS in Alaska is currently approximately 45,000 animals. The estimated abundance of sea lions in Russia is approximately 16,000. Based on population-wide surveys in 2002, total abundance of the eastern DPS is currently estimated at between 46,000 and 58,000 animals and has been increasing at a rate of approximately three percent per year since the late 1970s.

The first Steller sea lion recovery plan was completed in December 1992 and encompassed the entire range of the species. However, the recovery plan became obsolete after the split into two DPSs in 1997. By that time, nearly all of the recovery actions recommended in the original plan were completed. In 2001, NMFS assembled a new recovery team to update the plan. The team was comprised of members representing the fishing industry, Alaska Natives, fishery and marine mammal scientists, and environmental organizations. The recovery team completed a draft revision in February 2006, then solicited peer review on the draft recovery plan in accordance with NMFS'1994 peer review policy. The team requested reviews from five scientists and managers with expertise in recovery planning, statistical analyses, fisheries, and marine mammals. In response to reviewers' comments, the team clarified the recovery criteria, added delisting criteria for the western DPS, and further refined priorities and recovery actions. In March 2006, the Team submitted the revised plan to NOAA Fisheries with unanimous endorsement from the 17 Team members.

In May 2006, NMFS released the Draft Steller Sea Lion Recovery Plan for public review and comment (71 FR 29919). On July 20, 2006, NMFS extended the customary 60-day comment period until September 1, 2006 (71 FR 41206), to provide additional time for public review and comments. NMFS received comments from 18 individuals and organizations during the 100-day comment period. We reviewed these comments and incorporated recommendations into the Draft Revised Plan.

Due to extensive public interest and the controversial nature of the recovery plan, NMFS released the Draft Revised Plan for another round of public reviews and comments (72 FR 28473, May 21, 2007). This subsequent release provided the public an opportunity to review changes made based on earlier public input and to provide further comments prior to release of a final Steller Sea Lion Recovery Plan.

NMFS received 8,058 letters of comment on the May 2007 draft of the revised plan. Comments were provided by a wide range of interested parties, including members of the fishing industry, non-governmental organizations (NGOs), members of academia, the public, and other interested parties. In response to two solicitations, from NMFS and the North Pacific Fishery Management Council (NPFMC), peer review comments were received from the Center for Independent Experts and from scientific experts commissioned by the North Pacific Research Board, at the request of the NPFMC. NMFS reviewed the comments and recommendations submitted by peer reviewers and the public on the 2007 version of the draft revised plan and modified the plan as appropriate to produce this Final Revised Steller Sea Lion Recovery Plan (Plan). NMFS's response to comments on the May 2007 draft of the plan is available at http://alaskafisheries.noaa.gov/protectedresources/stellers/recovery.htm.

Several important issues were highlighted by the comments received and were addressed in the Final Revised Plan. The comments almost exclusively addressed the western DPS. The principal changes made by NMFS in response to comments included expansion of the discussion and a change to the rating of the killer whale threat, and modification of the nutritional stress discussion. Other, more minor changes were also made.

The Team had originally labeled the killer whale threat, along with fisheries and environmental variability, as “potentially high.” NMFS reclassified that threat to “medium” in the May 2007 draft plan based on new scientific evidence that had not been available when the Team developed their assessment. However, due to continuing controversy on the role that killer whales play in the recovery of Steller sea lions, the uncertainty associated with some of the data, and the need to take a precautionary approach, NMFS has reinstated the “potentially high” designation for the killer whale threat.

Comments were received on the nutritional stress section of the May 2007 Plan. NMFS has more fully explained some of the theories and the data on the role of nutritional stress in the recovery of Steller sea lions in the Final Revised Plan.

Overview

The Final Revised Plan contains: (1) a comprehensive review of Steller sea lion ecology, (2) a review of previous conservation actions, (3) a threats assessment, (4) biological and recovery criteria for downlisting and delisting, (4) actions necessary for the recovery of the species, and (5) estimates of time and costs for recovery.

The threats assessment concludes that the following threats to the western DPS are relatively minor: Alaska Native subsistence harvest, illegal shooting, entanglement in marine debris, disease, and disturbance from vessel traffic and scientific research. Although much has been learned about Steller sea lions and the North Pacific ecosystem, considerable uncertainty remains about the magnitude and likelihood of the following potential threats (relative impacts in parentheses): competition with fisheries (potentially high), environmental variability (potentially high), killer whale predation (potentially high), incidental take by fisheries (low), and toxic substances (medium). In contrast, no threats were identified for the eastern DPS. Although several factors that affect the western DPS also affect the eastern DPS (e.g., environmental variability, killer whale predation, toxic substances, disturbance), these threats do not appear to be limiting recovery of the population at this time.

The Final Revised Plan identifies an array of substantive actions that will foster recovery of the western DPS by addressing the broad range of threats. It highlights three actions (detailed below) that are especially important to the recovery program for the western DPS:

1. Maintain current or equivalent fishery conservation measures: After a long-term decline, the western DPS appears to be stabilizing. The first slowing of the decline began in the 1990s, which suggests that management measures implemented in the early 1990s may have been effective in reducing anthropogenic effects (e.g., shooting, harassment, and incidental take). The apparent population stability observed from 2000 to 2004 (surveys were conducted in 2006 and 2007 but were incomplete) appeared to be associated with comprehensive fishery management measures implemented since the late 1990s. Therefore, the current or equivalent suite of management actions (or, more specifically, the equivalent protection as afforded by the current management measures) should be maintained until substantive evidence demonstrates that these measures can be altered without inhibiting recovery.

2. Design and implement an adaptive management program to evaluate fishery conservation measures: A scientifically rigorous adaptive management program should be developed and implemented. A well-designed adaptive management plan has the potential to assess the relative impact of commercial fisheries on Steller sea lions and distinguish the impacts of fisheries from other threats (including killer whale predation). This program will require a robust experimental design with replication at appropriate temporal and spatial scales. It will be a challenge to construct an adaptive management plan that is statistically sound, meets the requirements of the ESA and can be implemented in a practicable manner.

3. Continue population monitoring and research on the key threats potentially impeding sea lion recovery: Estimates of population abundance and trends, spatial distribution, health, and essential habitat characteristics are fundamental to Steller sea lion management and recovery. Current knowledge of the effects of primary threats on these parameters is insufficient to determine their relative impacts on species recovery. Focused research is needed to assess the effects of threats on sea lion population dynamics and identify suitable mitigation measures.

Criteria for reclassification of the eastern DPS and western DPS of Steller sea lion are included in the Final Revised Plan (see above).

Time and costs for recovery actions for the western DPS are estimated at $93,840,000 for the first 5 fiscal years and $430,425,000 for full recovery. The recovery program for the eastern DPS will cost an estimated $150,000 for the first year and $1,050,000 total, including 10 years of post-delisting monitoring.

Authority: 16 U.S.C. 1531 et seq.

Dated: February 28, 2008.
Angela Somma,
Chief, Endangered Species Division, Office of Protected Resources, National Marine Fisheries Service.

[FR Doc. E8-4235 Filed 3-4-08; 8:45 am]

BILLING CODE 3510-22-S